DEPARTMENT OF ENERGY

Federal Energy Regulatory Commission

Combined Notice of Filings #1

Thursday, October 19, 2006.

Take notice that the Commission received the following electric rate filings:

Docket Numbers: ER03-1284-003.

Applicants: Blue Canyon Windpower LLC.

Description: Blue Canyon Windpower LLC submits Triennial Updated Market Analysis.

Filed Date: 10/16/2006.

Accession Number: 20061018-0085.

Comment Date: 5 p.m. Eastern Time on Monday, November 6, 2006.

Docket Numbers: ER03-719-004; ER03-720-004; ER03-721-004; ER98-830-013.

Applicants: New Athens Generating Company, LLC; New Covert Generating Company, LLC; New Harquahala Generating Company, LLC; Millennium Power Partners, L.P.

Description: New Athens Generation Company, LLC et al submits Notice of Non-material Change in Status relating to a change in their upstream indirect ownership pursuant to FERC's Order 652.

Filed Date: 10/10/2006.

Accession Number: 20061017-0121.

Comment Date: 5 p.m. Eastern Time on Tuesday, October 31, 2006.

Docket Numbers: ER03-9-006; ER98-2157-007; ER06-1313-001; EL06-54-001.

Applicants: Westar Energy, Inc. and Kansas Gas and Electric Company.

Description: Westar Energy, Inc & Kansas Gas & Electric Co submits Fourth Revised Sheet No. 1 & First Revised Sheet No. 1A, FERC Electric Tariff, Third Revised Volume No. 6.

Filed Date: 10/6/2006.

Accession Number: 20061018-0216.

Comment Date: 5 p.m. Eastern Time on Friday, October 27, 2006.

Docket Numbers: ER04-691-077.

Applicants: Midwest Independent Transmission System Operator, Inc.

Description: Midwest Independent Transmission System Operator, Inc submits proposed revisions to Section 38.91(A) of its Open Access Transmission, FERC Electric Tariff, Third Revised Volume No. 1.

Filed Date: 10/13/2006.

Accession Number: 20061018-0081.

Comment Date: 5 p.m. Eastern Time on Friday, November 3, 2006.

Docket Numbers: ER06-1253-001.

Applicants: Midwest Independent Transmission System Operator, Inc.

Description: Midwest Independent Transmission System Operator, Inc submits Revision to Section 40 of the Energy Markets Tariff concerning Scheduling Procedures for Reliability Assessment Commitment Process.

Filed Date: 10/16/2006.

Accession Number: 20061018-0089.

Comment Date: 5 p.m. Eastern Time on Monday, November 6, 2006.

Docket Numbers: ER06-1445-001.

Applicants: UGI Utilities, Inc.

Description: UGI Utilities submits Supplements to a proposed Revised Tariff Sheet No. 307 to its FERC OATT.

Filed Date: 10/16/2006.

Accession Number: 20061018-0084.

Comment Date: 5 p.m. Eastern Time on Monday, November 6, 2006.

Docket Numbers: ER06-1515-001.

Applicants: TXU Portfolio Management Company LP.

Description: TXU Portfolio Management Company, LP submits Substitute Sixth Revised Sheets 1-2 of their Sixth Revised Market-Based Rate Tariff.

Filed Date: 10/17/2006.

Accession Number: 20061018-0227.

Comment Date: 5 p.m. Eastern Time on Tuesday, November 7, 2006.

Docket Numbers: ER06-1516-001.

Applicants: Mac Trading, Inc.

Description: Mac Trading Inc submits a Petition for Acceptance of Initial Rate Schedule, Waivers and Blanket Authority designated as Rate Schedule FERC No. 1.

Filed Date: 10/17/2006.

Accession Number: 20061018-0222.

Comment Date: 5 p.m. Eastern Time on Tuesday, November 7, 2006.

Docket Numbers: ER06-738-003; ER06-739-003.

Applicants: Cogen Technologies Linden Venture, L.P.

Description: Cogen Technologies Linden Venture, LP et al notifies FERC of a change in status resulting from their affiliate's passive interest in a generating plant etc pursuant to FERC's Order 652.

Filed Date: 10/17/2006.

Accession Number: 20061019-0134.

Comment Date: 5 p.m. Eastern Time on Tuesday, November 7, 2006.

Docket Numbers: ER07-16-000.

Applicants: Pacific Gas & Electric Company.

Description: Pacific Gas and Electric Co submits three rate changes to its Transmission Owner Tariff, FERC Electric Sixth Revised Volume 5.

Filed Date: 10/6/2006.

Accession Number: 20061018-0097.

Comment Date: 5 p.m. Eastern Time on Friday, October 27, 2006.

Docket Numbers: ER07-30-001.

Applicants: RC Cape May Holdings, LLC.

Description: RC Cape May Holdings, LLC submits correction to the typographical error their application for acceptance of market-based rate authority.

Filed Date: 10/17/2006.

Accession Number: 20061018-0229.

Comment Date: 5 p.m. Eastern Time on Tuesday, November 7, 2006.

Docket Numbers: ER07-39-000.

Applicants: Mountainview Power Company, LLC.

Description: Mountainview Power Company, LLC submits Amendment 2 to the Power Purchase Agreement with Southern California Edison Co.

Filed Date: 10/16/2006.

Accession Number: 20061018-0086.

Comment Date: 5 p.m. Eastern Time on Monday, November 6, 2006.

Docket Numbers: ER07-40-000.

Applicants: PJM Interconnection, LLC.

Description: PJM Interconnection, LLC submits revised pages of the PJM OATT.

Filed Date: 10/16/2006.

Accession Number: 20061018-0087.

Comment Date: 5 p.m. Eastern Time on Monday, November 6, 2006.

Docket Numbers: ER07-41-000.

Applicants: Wisconsin Electric Power Company.

Description: Wisconsin Electric Power Company submits Notice of Cancellation of Wisconsin Electric's Rate Schedule FERC 69 Standby Service Agreement with the City of Jefferson Water and Electric Commission.

Filed Date: 10/16/2006.

Accession Number: 20061018-0088.

Comment Date: 5 p.m. Eastern Time on Monday, November 6, 2006.

Docket Numbers: ER07-42-000.

Applicants: Atlantic Path 15, LLC.

Description: Altantic Path 15, LLC informs FERC that it has succeeded to the tariff of Trans-Elect NTD Path 15 LLC and provides documentation.

Filed Date: 10/16/2006.

Accession Number: 20061018-0080.

Comment Date: 5 p.m. Eastern Time on Monday, November 6, 2006.

Docket Numbers: ER07-44-000.

Applicants: Southwest Power Pool, Inc.

Description: Southwest Power Pool Inc submits an executed Supplemental Service Agreement for Network Integration Transmission Service with Western Farmers Electric Cooperative.

Filed Date: 10/17/2006.

Accession Number: 20061018-0223.

Comment Date: 5 p.m. Eastern Time on Tuesday, November 7, 2006.

Docket Numbers: ER07-45-000.

Applicants: Horizon Power and Light LLC.

Description: Horizon Power & Light submits a Petition for Acceptance of Initial Rate Schedule, Waivers and Blanket, designated as Rate Schedule FERC No. 1.

Filed Date: 10/17/2006.

Accession Number: 20061018-0224.

Comment Date: 5 p.m. Eastern Time on Tuesday, November 7, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-18105 Filed 10-27-06; 8:45 am]

BILLING CODE 6717-01-P